DEPARTMENT OF COMMERCE

National Oceanic and Atmospheric Administration

[I.D. 041306B]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Sea Scallop Survey Advisory Panel in May, 2006, to consider actions affecting New England fisheries in the exclusive economic zone (EEZ). Recommendations from this group will be brought to the full Council for formal consideration and action, if appropriate.

DATES: This meeting will be held on Thursday, May 4, 2006 at 9 a.m.

ADDRESSES: This meeting will be held at the Narragansett Town Hall, 25 Fifth Avenue, Narragansett, RI 02882; telephone: (401) 789-1044; fax: (401) 783-9637.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The panel will review the strength and weaknesses of current and future scallop surveys, as well as hear plans for the new NMFS survey vessel, the RV Bigelow. The panel also will review the terms of reference to set short and long-term goals and objectives. Other issues related to the sea scallop surveys and their use in the management process may be discussed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: April 14, 2006.
James P. Burgess,
Acting Director, Office of Sustainable Fisheries, National Marine Fisheries Service.

[FR Doc. E6-5903 Filed 4-19-06; 8:45 am]

BILLING CODE 3510-22-S